DEPARTMENT OF HEALTH AND HUMAN SERVICES

Administration for Children and Families

Proposed Information Collection Activity; Comment Request

Proposed Projects

Title: National Directory of New Hires.

OMB No.: 0970-0166.

Description: The National Directory of New Hires (NDNH), an automated directory maintained by the Federal Office of Child Support Enforcement, was established pursuant to the Personal Responsibility and Work Opportunity Reconciliation Act of 1996. 42 U.S.C. 653(i)(1). In accordance with Section 453A(g)(2) of the Social Security Act, employers are required to report information pertaining to newly hired employees to their state directory of new hires (SDNH) and, within three days of receiving employer information, states are required to transmit SDNH information to the NDNH. States are also required to transmit wage and unemployment compensation claims information to the NDNH on a quarterly basis. Federal Agencies are required to report new hires and quarterly wage information directly to the NDNH.

The information maintained in the NDNH is collected electronically and is used to assist states in administering child support programs, assisting child support agencies in locating parents, and enforcing child support orders. Additionally, Congress has authorized specific state and federal agencies to receive NDNH information for authorized purposes to assist in administering certain programs.

Respondents: Employers, State Child Support Enforcement Agencies, and State Workforce Agencies.

Annual Burden Estimates
Instrument | Number of respondents | Number of responses per respondent | Average burden hours per response | Total burden hours
New Hire: Employers Reporting Manually | 5,294,970 | 1.98 | .025 hours (1.5 minute) | 262,101.02
New Hire: Employers Reporting Electronically | 635,162 | 76.40 | .00028 hours (1 second) | 13,587.39
New Hire: States | 54 | 193,947.41 | .016667 hours (1 minute) | 174,556.16
QW & UI | 53 | 27.00 | .00028 hours (1 second) | 0.40
Multistate Employer Form | 4,632 | 1.00 | .050 hours (3 minutes) | 231.60
Estimate Total Annual Burden Hours |  |  |  | 450,477

Estimated Total Annual Burden Hours: 450,477 hours.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden information to be collected; and (d) ways to minimize the burden of the collection of information on respondents, including through the use of automated collection techniques or other forms of information technology. Consideration will be given to comments and suggestions submitted within 60 days of this publication.

Robert Sargis,
Reports Clearance Officer.

[FR Doc. 2012-31116 Filed 12-26-12; 8:45 am]

BILLING CODE 4184-01-P